DEPARTMENT OF AGRICULTURE

Forest Service

Notice of Proposed New Fee Site; Federal Lands Recreation Enhancement Act, (Title VIII, Pub. L. 108-447)

AGENCY: Chattahoochee-Oconee National Forest, USDA Forest Service.

ACTION: Notice of proposed new fee site.

SUMMARY: The Chattahoochee-Oconee National Forest is planning to charge an $8 per site per night fee for overnight camping at Hickey Gap Campground. The fees listed are only proposed and will be determined upon further analysis and public comment. This campground has five creek-side campsites and has been available for camping use prior to this date. Visitor use monitoring on the Chattahoochee-Oconee National Forest has shown that people appreciate and enjoy the availability of quality outdoor camping facilities. Funds from the campground will be used for the continued operation and maintenance of Hickey Gap Campground.

DATES: If approved, Hickey Gap Campground will start charging fees in January 2010.

ADDRESSES: George Bain, Forest Supervisor, Chattahoochee-Oconee National Forest, 1755 Cleveland Highway, Gainesville, Georgia 30501.

FOR FURTHER INFORMATION CONTACT: Alison Koopman, Developed Recreation Program Manager, 770-297-3030. Information about proposed fee changes can also be found on the Chattahoochee-Oconee National Forest Web site: http://www.fs.fed.us/conf/.

SUPPLEMENTARY INFORMATION: The Federal Recreation Lands Enhancement Act (Title VII, Pub. L. 108-447) directed the Secretary of Agriculture to publish a six month advance notice in the Federal Register whenever new recreation fee areas are established. Once public involvement is complete, this new fee will be reviewed by a Recreation Resource Advisory Committee prior to a final decision and implementation.

Dated: April 13, 2009.
George Bain,
Forest Supervisor, Chattahoochee-Oconee National Forest.

[FR Doc. E9-9015 Filed 4-20-09; 8:45 am]

BILLING CODE 3410-11-M